DEPARTMENT OF TRANSPORTATION

Office of The Secretary

Application Of Kitty Hawk International d/b/a American International Airways and Kalitta Air, L.L.C. For Transfer Of Certificate Authority

AGENCY: Department of Transportation.

ACTION: Notice of order to show cause (Order 2000-10-29) Docket OST-2000-7588.

SUMMARY: The Department of Transportation is directing all interested persons to show cause why it should not issue an order finding Kalitta Air, L.L.C., fit, willing, and able, and (1) transferring to it the all-cargo authority contained in the interstate scheduled certificate currently issued to Kitty Hawk International, Inc. d/b/a American International Airways, and (2) canceling the passenger authority contained in that certificate.

DATES: Persons wishing to file objections should do so no later than November 6, 2000.

ADDRESSES: Objections and answers to objections should be filed in Docket OST-2000-7588 and addressed to the Department of Transportation Dockets (SVC-124.1, Room PL-401), U.S. Department of Transportation, 400 Seventh Street, SW., Washington, DC 20590, and should be served upon the parties listed in Attachment A to the order.

FOR FURTHER INFORMATION CONTACT: Ms. Delores King, Air Carrier Fitness Division (X-56, Room 6401), U.S. Department of Transportation, 400 Seventh Street, SW., Washington, DC 20590, (202) 366-2343.

Dated: October 27, 2000.
Susan McDermott,
Deputy Assistant Secretary for Aviation and International Affairs.

[FR Doc. 00-28151 Filed 11-1-00; 8:45 am]

BILLING CODE 4910-62-P